DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: This action was issued on October 30, 2025. See Supplementary Information for relevant dates.

FOR FURTHER INFORMATION CONTACT: OFAC: Associate Director for Global Targeting, 202-622-2420; Assistant Director for Sanctions Compliance, 202-622-2490 or https://ofac.treasury.gov/contact-ofac.

SUPPLEMENTARY INFORMATION:

Electronic Availability

The SDN List and additional information concerning OFAC sanctions programs are available on OFAC's website: https://ofac.treasury.gov.

Notice of OFAC Action

On October 30, 2025, OFAC determined that the property and interests in property subject to U.S. jurisdiction of the following persons are blocked under the relevant sanctions authorities listed below.

Individuals

1. BHARDWAJ, Vikrant, Cancun, Quintana Roo, Mexico; Dubai, United Arab Emirates; DOB 05 Sep 1986; POB New Delhi, India; nationality India; alt. nationality Mexico; Gender Male; Passport Z5317632 (India) expires 15 Jan 2029; alt. Passport N14909118 (Mexico) expires 16 Jul 2034; C.U.R.P. BAXV860905HNEHXK02 (Mexico); Identification Number 10047735 (India) (individual) [TCO] (Linked To: BHARDWAJ HUMAN SMUGGLING ORGANIZATION).

Designated pursuant to section 1(a)(ii)(C) of Executive Order 13581 of July 24, 2011, “Blocking Property of Transnational Criminal Organizations,” 76 FR 44757 (July 27, 2011), as amended by Executive Order 13863 of March 15, 2019, “Taking Additional Steps to Address the National Emergency With Respect to Significant Transnational Criminal Organizations,” 84 FR 10255 (March 19, 2019) (E.O. 13581, as amended) for being owned or controlled by, or having acted or purported to act for or on behalf of, directly or indirectly, BHARDWAJ HUMAN SMUGGLING ORGANIZATION, a person whose property and interests in property are blocked pursuant to E.O. 13581, as amended.

2. MENDOZA VILLEGAS, Jorge Alejandro, Cancun, Quintana Roo, Mexico; DOB 27 Sep 1979; POB Mexico City, Mexico; nationality Mexico; Gender Male; C.U.R.P. MEVJ790927HDFNLR02 (Mexico) (individual) [TCO] (Linked To: BHARDWAJ HUMAN SMUGGLING ORGANIZATION).

Designated pursuant to section 1(a)(ii)(C) of E.O. 13581, as amended, for being owned or controlled by, or having acted or purported to act for or on behalf of, directly or indirectly, BHARDWAJ HUMAN SMUGGLING ORGANIZATION, a person whose property and interests in property are blocked pursuant to E.O. 13581, as amended.

3. RANI, Indu, Benito Juarez, Quintana Roo, Mexico; DOB 28 Oct 1987; POB New Delhi, India; nationality India; alt. nationality Mexico; Gender Female; Passport W3506105 (India) expires 01 Sep 2032; alt. Passport N14909117 (Mexico) expires 16 Jul 2034; C.U.R.P. RAXI871028MNENXN04 (Mexico); Identification Number 10052853 (India) (individual) [TCO] (Linked To: BHARDWAJ, Vikrant).

Designated pursuant to section 1(a)(ii)(C) of E.O. 13581, as amended, for being owned or controlled by, or having acted or purported to act for or on behalf of, directly or indirectly, Vikrant Bhardwaj, a person whose property and interests in property are blocked pursuant to E.O. 13581, as amended.

4. VALADEZ FLORES, Jose German, Cancun, Quintana Roo, Mexico; DOB 04 Jul 1977; POB Coahuila de Zaragoza, Mexico; nationality Mexico; Gender Male; C.U.R.P. VAFG770704HCLLLR03 (Mexico) (individual) [TCO] (Linked To: BHARDWAJ HUMAN SMUGGLING ORGANIZATION).

Designated pursuant to section 1(a)(ii)(C) of E.O. 13581, as amended, for being owned or controlled by, or having acted or purported to act for or on behalf of, directly or indirectly, BHARDWAJ HUMAN SMUGGLING ORGANIZATION, a person whose property and interests in property are blocked pursuant to E.O. 13581, as amended.

BILLING CODE 4810-AL-P

Bradley T. Smith,
Director, Office of Foreign Assets Control.

[FR Doc. 2025-20136 Filed 11-17-25; 8:45 am]

BILLING CODE 4810-AL-C